DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: The Health Education Assistance Loan (HEAL) Program Regulations (OMB No. 0915-0108): Extension

The Health Education Assistance Loan (HEAL) Program has regulations that contain notification, reporting and recordkeeping requirements to insure that the lenders, holders and schools participating in the HEAL program follow sound management procedures in the administration of federally-insured student loans. While the regulatory requirements are approved under the OMB number referenced above, much of the burden associated with the regulations is cleared under the OMB numbers for the HEAL forms and electronic submissions used to report required information. The table listed at the end of this notice contains the estimate of burden for the remaining regulations.

The estimates of burden are as follows:

Number of respondents | Number of transactions | Total transactions | Hours per response (minutes) | Total burden hours
Reporting Requirements
17 Holders | 5 | 78 | 12 | 17
190 Schools | .4 | 76 | 10 | 13
Total Reporting |  |  |  | 30
Notification Requirements
7,930 Borrowers | 1 | 7,930 | 10 | 1,322
17 Holders | 7,910 | 134,470 | 10 | 22,412
190 Schools | .89 | 170 | 14 | 40
Total Notification |  |  |  | 23,774
Recordkeeping Requirements
17 Holders | 3,568 | 60,656 | 14 | 14,153
190 Schools | 257 | 48,830 | 15 | 12,208
Total Recordkeeping |  |  |  | 26,361
Total |  |  |  | 50,165

Written comments and recommendations concerning the proposed information collection should be sent within 30 days of this notice to: Karen Matsuoka, Human Resources and Housing Branch, Office of Management and Budget, New Executive Office Building, Room 10235, Washington, DC 20503.

Dated: December 28, 2006.
Caroline Lewis,
Acting Associate Administrator for Administration and Financial Management.

[FR Doc. E7-94 Filed 1-8-07; 8:45 am]

BILLING CODE 4165-15-P